DEPARTMENT OF ENERGY

Federal Energy Regulatory Commission

[Docket No. UL11-1-000]

Turlock Irrigation District; Notice of Availability of Navigability Report for the Tuolumne River, Request for Comments, and Notice of Pending Jurisdictional Inquiry

On June 10, 2011, the Federal Energy Regulatory Commission (Commission) received an inquiry from the National Marine Fisheries Service, National Oceanic and Atmospheric Administration, concerning the status of the unlicensed La Grange Hydroelectric Project. The project is located on the Tuolumne River near the town of La Grange in Tuolumne County, California.

As part of its review, Commission staff is investigating the jurisdictional status of the project and has prepared a navigability report for the Tuolumne River. Before making its decision, staff will accept and consider comments on the navigability report. Comments may be filed no later July 2, 2012.

Section 23(b)(1) of the Federal Power Act (FPA) requires a Commission license for the construction, operation, or maintenance of hydropower projects which: (1) Are located on navigable waters of the United States; (2) occupy public lands or reservations of the United States; (3) utilize the surplus water or water power from a federal dam; ¹ or (4) are located on non-navigable streams over which Congress has jurisdiction under its authority to regulate interstate and foreign commerce, would affect the interests of interstate or foreign commerce (such as by connection to the interstate electrical grid, and are constructed or enlarged after August 26, 1935.

¹ Licensing is not required under conditions 1, 2, or 3 above if the project is constructed, operated, and maintained in accordance with the terms of a valid federal permit issued prior to June 10, 1920.

A stream is navigable under section 3(8) of the FPA if: (1) It is currently being used or is suitable for use, or (2) it has been used or was suitable for use in the past, or (3) it could be made suitable for use in the future by reasonable improvements, to transport persons or property in interstate or foreign commerce. Navigability under section 3(8) of the FPA is not destroyed by obstructions or disuse of many years; personal or private use may be sufficient to demonstrate the availability of the river for commercial navigation; and the seasonal floatation of logs is sufficient to determine that a river is navigable.

Comments are invited on the staff's navigability report. Copies of this navigability report are on file with the Commission and are available for public inspection. This navigability report may be viewed on the web at http://www.ferc.gov using the “eLibrary” link. Enter the docket number, UL11-1, excluding the last three digits in the docket number field to access the document. You may also register online at http://www.ferc.gov/docs-filing/esubscription.asp to be notified via email of new filings and issuances related to this or other pending projects. For assistance, please contact FERC Online Support at FERCOnlineSupport@ferc.gov or toll-free at (866) 208-3676, or TTY, contact (202) 502-8659.

Please file your response with the Commission's Secretary by July 2, 2012. All comments may be filed electronically via the Internet. See 18 CFR 385.2001(a)(1)(iii) and the instructions on the Commission's web site at http://www.ferc.gov under the “e-Filing” link. If unable to be filed electronically, comments may be paper-filed. To paper-file, an original and eight copies should be filed with: Secretary, Mail Code PJ-12, Federal Energy Regulatory Commission, 888 First Street NE., Washington, DC 20426. For more information on how to submit these types of filings, please go to the Commission's Web site at http://www.ferc.gov.filing-comments.asp. Please include the docket number (UL11-1-000) on any filing.

For further information, please contact Henry Ecton at (202) 502-8768.

Dated: May 29, 2012.
Kimberly D. Bose,
Secretary.

[FR Doc. 2012-13504 Filed 6-4-12; 8:45 am]

BILLING CODE 6717-01-P